DEPARTMENT OF COMMERCE

Foreign-Trade Zones Board

[B-64-2019]

Foreign-Trade Zone (FTZ) 33—Pittsburgh, Pennsylvania; Authorization of Production Activity; Steelite International USA, Inc. (Hospitality Industry Serveware); New Castle, Pennsylvania

On October 3, 2019, the Regional Industrial Development Corporation of Southwestern Pennsylvania, grantee of FTZ 33, submitted a notification of proposed production activity to the FTZ Board on behalf of Steelite International USA, Inc., within FTZ 33, in New Castle, Pennsylvania.

The notification was processed in accordance with the regulations of the FTZ Board (15 CFR part 400), including notice in the Federal Register inviting public comment (84 FR 55550, October 17, 2019). On January 31, 2020, the applicant was notified of the FTZ Board's decision that no further review of the activity is warranted at this time. The production activity described in the notification was authorized, subject to the FTZ Act and the FTZ Board's regulations, including Section 400.14.

Dated: January 31, 2020.
Elizabeth Whiteman,
Acting Executive Secretary.

[FR Doc. 2020-02264 Filed 2-4-20; 8:45 am]

BILLING CODE 3510-DS-P